DEPARTMENT OF DEFENSE

Defense Acquisition Regulations System

[Docket Number DARS-2017-0002; OMB Control Number 0704-0252]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by October 27, 2017.

SUPPLEMENTARY INFORMATION:

Title, Associated Form, and OMB Number: Defense Federal Acquisition Regulation Supplement (DFARS), Part 251, Use of Government Sources by Contractors, and an associated clause at DFARS 252.251-7000, Ordering from Government Supply Sources; OMB Control Number 0704-0252.

Type of Request: Revision of a currently approved collection.

Affected Public: Businesses or other for-profit and not-for profit institutions.

Respondent's Obligation: Required to obtain or retain benefits.

Reporting Frequency: On occasion.

Number of Respondents: 654.

Responses per Respondent: 5.

Annual Responses: 3,270.

Average Burden per Response: .5 hour.

Annual Burden Hours: 1,635.

Needs and Uses: This information collection includes requirements relating to DFARS part 251, Contractor Use of Government Supply Sources and the clause at DFARS 252.251-7000, Ordering from Government Supply Sources. This information collection permits contractors to place orders from Government supply sources, including Federal Supply Schedules, requirements contracts, and Government stock. Contractors are required to provide a copy of their written authorization to use Government supply sources with their order. The authorization is used by the Government source of supply to verify that a contractor is authorized to place such orders and under what conditions.

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer L. Hawes,
Editor, Defense Acquisition Regulations System.

[FR Doc. 2017-20642 Filed 9-26-17; 8:45 am]

BILLING CODE 5001-06-P